DEPARTMENT OF THE INTERIOR

Bureau of Land Management

[BLM_CO_FRN_MO4500170984]

Notice of Realty Action: Direct Sale of Public Land in Eagle County, CO

AGENCY: Bureau of Land Management, Interior.

ACTION: Notice of realty action.

SUMMARY: The Bureau of Land Management (BLM) is proposing a noncompetitive (direct) sale of 7.55 acres of public land in Eagle County, Colorado, to Sweetwater Rydev LLC, to resolve an inadvertent unauthorized use of public lands. The sale will be subject to the applicable provisions of the Federal Land Policy and Management Act of 1976 (FLPMA) and BLM land sale regulations. The proponent would purchase the parcel for the appraised fair market value of the land, which is $24,000.

DATES: Interested parties may submit written comments regarding this direct sale by February 5, 2024.

ADDRESSES: Mail written comments to Larry W. Sandoval Jr., BLM Field Manager, Colorado River Valley Field Office, 2300 River Frontage Road, Silt, CO 81652, or by email to blm_co_si_crvfo_webmail@blm.gov.

FOR FURTHER INFORMATION CONTACT: Jill Bogdanovich, Realty Specialist, BLM, Colorado River Valley Field Office, phone (970) 876-9024, or by email at jbogdanovich@blm.gov. Individuals in the United States who are deaf, deafblind, hard of hearing, or have a speech disability may dial 711 (TTY, TDD, or TeleBraille) to access telecommunications relay services for contacting Jill Bogdanovich. Individuals outside the United States should use the relay services offered within their country to make international calls to the point-of-contact in the United States.

SUPPLEMENTARY INFORMATION: The BLM will consider the direct sale in accordance with Section 203 of FLPMA for the following public lands:

Sixth Principal Meridian, Colorado

T. 4 S., R. 86 W.,

Sec. 9, lots 18 and 28.

The area described contains 7.55 acres, according to the official plat of the survey of the said land, on file with the BLM.

The proposed sale is in conformance with the BLM Colorado River Valley Field Office Record of Decision and Approved Resource Management Plan decision LRT-MA-10 (page 108) approved in June 2015. A parcel-specific Environmental Assessment (EA), document number DOI-BLM-CO-N040-2018-0009-EA, was prepared in connection with this realty action. It can be viewed online at https://eplanning.blm.gov/eplanning-ui/project/110929/510. The land is suitable for direct sale under FLPMA, without competition, consistent with 43 CFR 2711.3-3(a)(5), because there is a need to resolve an inadvertent and unauthorized use of public lands, which are encumbered by privately owned improvements.

Pursuant to the requirements of 43 CFR 2711.1-2(d), publication of this notice in the Federal Register will segregate the land from all forms of appropriation under the public land laws, including the mining laws, except for the sale provisions of FLPMA. Until completion of the sale, the BLM will no longer accept land use applications affecting the public land. The segregative effect will terminate upon issuance of a patent, publication in the Federal Register of a termination of the segregation, or on December 21, 2025, unless extended by the BLM Colorado State Director in accordance with 43 CFR 2711.1-2(d) prior to the termination date.

The patent, if issued, will be subject to the following terms, covenants, conditions, and reservations:

1. A mineral reservation to the United States for all minerals;

2. A reservation to the United States for ditches and canals constructed by authority of the United States under the Act of August 30, 1890;

3. Valid existing rights issued prior to conveyance;

4. An appropriate indemnification clause protecting the United States from claims arising out of the patentee's use, occupancy, or operations on the patented lands;

5. Additional terms and conditions that the authorized officer deems appropriate.

The EA, appraisal, maps, and Environmental Site Assessment are available for review (see the FOR FURTHER INFORMATION CONTACT section earlier). Interested parties may submit, in writing, any comments concerning the sale, including notifications of any encumbrances or other claims relating to the parcel, to the address listed earlier (see ADDRESSES).

The BLM Colorado State Director will review any adverse comments regarding this direct sale and may sustain, vacate, or modify this realty action, in whole or in part. In the absence of timely objections, this realty action will become the final determination of the Department of the Interior. In addition to the publication in the Federal Register, the BLM will also publish this notice in the Post Independent newspaper and Vail Daily newspaper, once a week for 3 consecutive weeks.

Before including your address, phone number, email address, or other personal identifying information in your comments, the BLM will make your entire comment—including your personal identifying information—publicly available at any time. While you can ask us in your comment to withhold your personal identifying information from public review, we cannot guarantee that we will be able to do so.

(Authority: 43 CFR 2710)

Douglas J. Vilsack,
BLM Colorado State Director.

[FR Doc. 2023-28045 Filed 12-20-23; 8:45 am]

BILLING CODE 4331-16-P